DEPARTMENT OF ENERGY

Federal Energy Regulatory Commission

[Docket No. FA11-21-000]

North American Electric Reliability Corporation; Notice of Designation of Commission Staff as Non-Decisional

With respect to an order issued by the Commission today in the above-captioned docket, with the exceptions noted below, the staff of the Office of Enforcement are designated as non-decisional in deliberations by the Commission in this docket. Accordingly, pursuant to 18 CFR 385.2202 (2011), these persons will not serve as advisors to the Commission or take part in the Commission's review of any offer of settlement. Likewise, as non-decisional staff, pursuant to 18 CFR 385.2201 (2011), they are prohibited from communicating with advisory staff concerning any deliberations in this docket.

Exceptions to this designation as non-decisional are:

Larry Gasteiger

Bryan Craig

Roger Morie

David Applebaum

Teresina Stasko

Jeremy Medovoy

Dated: June 4, 2012.
Kimberly D. Bose,
Secretary.

[FR Doc. 2012-14019 Filed 6-8-12; 8:45 am]

BILLING CODE 6717-01-P